DEPARTMENT OF HOMELAND SECURITY

Federal Emergency Management Agency

[Docket ID FEMA-2016-0002; Internal Agency Docket No. FEMA-B-1672]

Changes in Flood Hazard Determinations

AGENCY: Federal Emergency Management Agency, DHS.3 dual community.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 16, 2017.
Roy E. Wright,
Deputy Associate Administrator for Insurance and Mitigation, Department of Homeland Security, Federal Emergency Management Agency.

State and county | Location and case No. | Chief executive officer of community | Community map repository | Online location of letter of map revision | Effective date of modification | Community No.
Florida:
Broward | City of Deerfield Beach (16-04-5305P) | The Honorable Jean M. Robb, Mayor, City of Deerfield Beach, 150 Northeast 2nd Avenue, Deerfield Beach, FL 33441 | Environmental Services Department, 200 Goolsby Boulevard, Deerfield Beach, FL 33442 | http://www.msc.fema.gov/lomc | Mar. 28, 2017 | 125101
Charlotte | Unincorporated areas of Charlotte County (16-04-6702P) | The Honorable Bill Truex, Chairman, Charlotte County Board of Commissioners, 18500 Murdock Circle, Port Charlotte, FL 33948 | Charlotte County Floodplain Management Department, 18500 Murdock Circle, Port Charlotte, FL 33948 | http://www.msc.fema.gov/lomc | Apr. 4, 2017 | 120061
Collier | City of Naples (16-04-8542P) | The Honorable Bill Barnett, Mayor, City of Naples, 735 8th Street South, Naples, FL 34102 | Building Department, 295 Riverside Circle, Naples, FL 34102 | http://www.msc.fema.gov/lomc | Apr. 5, 2017 | 125130
Escambia | Pensacola Beach-Santa Rosa Island Authority (16-04-6550P) | The Honorable Dave Pavlock, Chairman, Pensacola Beach-Santa Rosa Island Authority, P.O. Drawer 1208, Pensacola Beach, FL 32562 | Development Services Department, 1 Via De Luna Drive, Pensacola Beach, FL 32562 | http://www.msc.fema.gov/lomc | Mar. 30, 2017 | 125138
Lee | Unincorporated areas of Lee County (16-04-4231P) | The Honorable Frank Mann, Chairman, Lee County Board of Commissioners, P.O. Box 398, Fort Myers, FL 33901 | Lee County Building Department, 1500 Monroe Street, Fort Myers, FL 33901 | http://www.msc.fema.gov/lomc | Mar. 24, 2017 | 125124
Monroe | Unincorporated areas of Monroe County (16-04-8290P) | The Honorable Heather Carruthers, Mayor, Monroe County Board of Commissioners, 500 Whitehead Street, Suite 102, Key West, FL 33040 | Monroe County Building Department, 2798 Overseas Highway, Marathon, FL 33050 | http://www.msc.fema.gov/lomc | Mar. 23, 2017 | 125129
Monroe | Unincorporated areas of Monroe County (16-04-8291P) | The Honorable Heather Carruthers, Mayor, Monroe County Board of Commissioners, 500 Whitehead Street, Suite 102, Key West, FL 33040 | Monroe County Building Department, 2798 Overseas Highway, Marathon, FL 33050 | http://www.msc.fema.gov/lomc | Mar. 30, 2017 | 125129
Osceola | Unincorporated areas of Osceola County (16-04-3250P) | The Honorable Viviana Janer, Chair, Osceola County Board of Commissioners, 1 Courthouse Square, Suite 4700, Kissimmee, FL 34741 | Osceola County Community Development Department, 1 Courthouse Square, Suite 1100, Kissimmee, FL 34741 | http://www.msc.fema.gov/lomc | Mar. 31, 2017 | 120189
Georgia: Forsyth | Unincorporated areas of Forsyth County (16-04-4934P) | Mr. Doug Derrer, Manager, Forsyth County, 110 East Main Street, Suite 210, Cumming, GA 30040 | Forsyth County Department of Engineering, 110 East Main Street, Suite 120, Cumming, GA 30040 | http://www.msc.fema.gov/lomc | Mar. 9, 2017 | 130312
Maine: Hancock | Town of Gouldsboro (16-01-1304P) | The Honorable Dana Rice, Chairman, Town of Gouldsboro Board of Selectmen, 59 Main Street, Prospect Harbor, ME 04669 | Code Enforcement Office, 59 Main Street, Prospect Harbor, ME 04669 | http://www.msc.fema.gov/lomc | Mar. 10, 2017 | 230283
Massachusetts:
Norfolk | Town of Cohasset (16-01-0636P) | Mr. Christopher Senior, Manager, Town of Cohasset, 41 Highland Avenue, Cohasset, MA 02025 | Town Hall, 41 Highland Avenue, Cohasset, MA 02025 | http://www.msc.fema.gov/lomc | Mar. 21, 2017 | 250236
Norfolk | Town of Cohasset (16-01-2031P) | Mr. Christopher Senior, Manager, Town of Cohasset, 41 Highland Avenue, Cohasset, MA 02025 | Town Hall, 41 Highland Avenue, Cohasset, MA 02025 | http://www.msc.fema.gov/lomc | Mar. 20, 2017 | 250236
Plymouth | Town of Marion (16-01-2499P) | The Honorable Jonathan E. Dickerson, Chairman, Town of Marion Board of Selectmen, 2 Spring Street, Marion, MA 02738 | Town Hall, 2 Spring Street, Marion, MA 02738 | http://www.msc.fema.gov/lomc | Mar. 3, 2017 | 255213
New York: Steuben | Town of Hornellsville (16-02-1795P) | The Honorable Kenneth Isaman, Supervisor, Town of Hornellsville, 4 Park Avenue, Arkport, NY 14807 | Town Hall, 4 Park Avenue, Arkport, NY 14807 | http://www.msc.fema.gov/lomc | May. 2, 2017 | 360777
North Carolina:
Caswell | Unincorporated areas of Caswell County (16-04-3759P) | The Honorable William E. Carter, Chairman, Caswell County Board of Commissioners, P.O. Box 98, Yanceyville, NC 27379 | Caswell County Planning Department, 144 Main Street, Yanceyville, NC 27379 | http://www.msc.fema.gov/lomc | Mar. 23, 2017 | 370300
Catawba | City of Hickory (16-04-3174P) | The Honorable Rudy Wright, Mayor, City of Hickory, 76 North Center Street, Hickory, NC 28601 | City Hall, 76 North Center Street, Hickory, NC 28601 | http://www.msc.fema.gov/lomc | Feb. 1, 2017 | 370054
Edgecomb | Town of Tarboro (16-04-6123P) | The Honorable Taro Knight, Mayor Pro-Tem, Town of Tarboro, P.O. Box 220, Tarboro, NC 27886 | Planning and Inspections Department, 500 North Main Street, Tarboro, NC 27886 | http://www.msc.fema.gov/lomc | Feb. 23, 2017 | 370094
Greene | Unincorporated areas of Greene County (16-04-3348P) | The Honorable Brad Fields, Chairman, Greene County Board of Commissioners, 229 Kingold Boulevard, Suite D, Snow Hill, NC 28580 | Greene County Department of Building Inspections, 104 Hines Street, Snow Hill, NC 28580 | http://www.msc.fema.gov/lomc | Mar. 7, 2017 | 370378
Moore | Town of Carthage (16-04-5694P) | The Honorable Lee McGraw, Mayor, Town of Carthage, 4396 Highway 15-501, Carthage, NC 28327 | Town Hall, 4396 Highway 15-501, Carthage, NC 28327 | http://www.msc.fema.gov/lomc | Apr. 6, 2017 | 370555
Moore | Unincorporated areas of Moore County (16-04-5694P) | The Honorable Nick Picerno, Chairman, Moore County Board of Commissioners, P.O. Box 905, Carthage, NC 28327 | Moore County Planning and Transportation Department, 1048 Carriage Oaks Drive, Carthage, NC 28327 | http://www.msc.fema.gov/lomc | Apr. 6, 2017 | 370164
Union | Town of Weddington (16-04-1411P) | The Honorable Bill Deter, Mayor, Town of Weddington 1924 Weddington Road, Weddington, NC 28104 | Town Hall, 1924 Weddington Road, Weddington, NC 28104 | http://www.msc.fema.gov/lomc | Dec. 15, 2016 | 370518
Union | Unincorporated areas of Union County (16-04-1411P) | The Honorable Richard Helms, Chairman, Union County Board of Commissioners, 500 North Main Street, Room 921, Monroe, NC 28112 | Union County Office of Growth Management Planning Division, 500 North Main Street, Monroe, NC 28112 | http://www.msc.fema.gov/lomc | Dec. 15, 2016 | 370234
Yadkin | Town of Yadkinville (16-04-7376P) | The Honorable Eddie Norman, Mayor, Town of Yadkinville, P.O. Box 816, Yadkinville, NC 27055 | Town Hall, 213 Van Buren Street, Yadkinville, NC 27055 | http://www.msc.fema.gov/lomc | Feb. 9, 2017 | 370640
Yadkin | Unincorporated areas of Yadkin County (16-04-7376P) | The Honorable Kevin Austin, Chairman, Yadkin County Board of Commissioners, P.O. Box 220, Yadkinville, NC 27055 | Yadkin County Planning and Zoning Department, 213 East Elm Street, Yadkinville, NC 27055 | http://www.msc.fema.gov/lomc | Feb. 9, 2017 | 370400
Oklahoma:
Canadian | City of Oklahoma City (16-06-1043P) | The Honorable Mick Cornett, Mayor, City of Oklahoma City, 200 North Walker Avenue, Oklahoma City, OK 73102 | Public Works Department, 420 West Main Street, Suite 700, Oklahoma City, OK 73102 | http://www.msc.fema.gov/lomc | Mar. 30, 2017 | 405378
Canadian | City of Yukon (16-06-1043P) | The Honorable John Alberts, Mayor, City of Yukon, 1420 Spring Creek Drive, Yukon, OK 73099 | Development Services Department, 334 Elm Street, Yukon, OK 73099 | http://www.msc.fema.gov/lomc | Mar. 30, 2017 | 400028
Rogers | City of Collinsville (16-06-2264P) | The Honorable Bud York, Mayor, City of Collinsville, P.O. Box 730, Collinsville, OK 74021 | Engineering Department, 106 North 12th Street, Collinsville, OK 74021 | http://www.msc.fema.gov/lomc | Apr. 6, 2017 | 400360
Rogers | Unincorporated Areas of Rogers County (16-06-2264P) | The Honorable Dan Delozier, Chairman, Rogers County Board of Commissioners, 200 South Lynn Riggs Boulevard, Clamore, OK 74017 | Rogers County Planning and Development Department, 200 South Lynn Riggs Boulevard, Clamore, OK 74017 | http://www.msc.fema.gov/lomc | Apr. 6, 2017 | 405379
Pennsylvania:
Bucks | Borough of Morrisville (16-03-2671P) | Mr. Robert C. Sooby, Manager, Borough of Morrisville, 35 Union Street, Morrisville, PA 19067 | Borough Hall, 35 Union Street, Morrisville, PA 19067 | http://www.msc.fema.gov/lomc | Mar. 22, 2017 | 420194
Bucks | Township of Falls (16-03-2671P) | The Honorable Robert Harvie, Chairman, Township of Falls Board of Supervisors, 188 Lincoln Highway, Suite 100, Fairless Hills, PA 19030 | Township Hall, 188 Lincoln Highway, Suite 100, Fairless Hills, PA 19030 | http://www.msc.fema.gov/lomc | Mar. 22, 2017 | 420188
York | Township of Fairview (16-03-2653P) | The Honorable Larry Cox, Chairman, Township of Fairview Board of Supervisors, 599 Lewisberry Road, New Cumberland, PA 17070 | Township Municipal Building, 599 Lewisberry Road, New Cumberland, PA 17070 | http://www.msc.fema.gov/lomc | Mar. 15, 2017 | 420923
York | Township of Newberry (16-03-2653P) | The Honorable Will Toothaker, Chairman, Township of Newberry, Board of Supervisors, 1915 Old Trail Road, Etters, PA 17319 | Township Municipal Building, 1915 Old Trail Road, Etters, PA 17319 | http://www.msc.fema.gov/lomc | Mar. 15, 2017 | 422226
Texas:
Bell | Unincorporated areas of Bell County (16-06-3508P) | The Honorable John Burrows, Bell County Judge, P.O. Box 768, Belton, TX 76513 | Bell County Engineering Department, 206 North Main Street, Belton, TX 76513 | http://www.msc.fema.gov/lomc | Mar. 7, 2017 | 480706
Bell | Village of Salado (16-06-2289P) | The Honorable Skip Blancett, Mayor, Village of Salado, P.O. Box 219, Salado, TX 76571 | Village Hall, 301 North Stagecoach Road, Salado, TX 76571 | http://www.msc.fema.gov/lomc | Mar. 24, 2017 | 480033
Bexar | City of San Antonio (16-06-3198P) | The Honorable Ivy R. Taylor, Mayor, City of San Antonio, P.O. Box 839966, San Antonio, TX 78283 | Transportation and Capital Improvements Department, Storm Water Division, 1901 South Alamo Street, 2nd Floor, San Antonio, TX 78284 | http://www.msc.fema.gov/lomc | Mar. 20, 2017 | 480045
Bexar | Unincorporated areas of Bexar County (16-06-3198P) | The Honorable Nelson W. Wolff, Bexar County Judge, 101 West Nueva Street, 10th Floor, San Antonio, TX 78205 | Bexar County Public Works Department, 233 North Pecos-La Trinidad Street, Suite 420, San Antonio, TX 78204 | http://www.msc.fema.gov/lomc | Mar. 20, 2017 | 480035
Dallas | City of Dallas (16-06-2144P) | The Honorable Mike Rawlings, Mayor, City of Dallas, 1500 Marilla Street, Room 5EN, Dallas, TX 75201 | Engineering Department, 320 East Jefferson Boulevard, Room 200, Dallas, TX 75203 | http://www.msc.fema.gov/lomc | Mar. 13, 2017 | 480171
Harris | City of Houston (16-06-1829P) | The Honorable Sylvester Turner, Mayor, City of Houston, P.O. Box 1562, Houston, TX 77251 | Floodplain Management Office, 1002 Washington Avenue, 3rd Floor, Houston, TX 77002 | http://www.msc.fema.gov/lomc | Feb. 24, 2017 | 480296
Harris | Unincorporated areas of Harris County (16-06-2693P) | The Honorable Edward M. Emmett, Harris County Judge, 1001 Preston Street, Suite 911, Houston, TX 77002 | Harris County Permit Office, 10555 Northwest Freeway, Suite 120, Houston, TX 77092 | http://www.msc.fema.gov/lomc | Mar. 3, 2017 | 480287
Johnson | City of Burleson (16-06-3257P) | The Honorable Ken Shetter, Mayor, City of Burleson, 141 West Renfro Street, Burleson, TX 76028 | City Hall, 141 West Renfro Street, Burleson, TX 76028 | http://www.msc.fema.gov/lomc | Mar. 17, 2017 | 485459
Tarrant | City of Keller (16-06-2452P) | The Honorable Mark Mathews, Mayor, City of Keller, P.O. Box 770, Keller, TX 76244 | Public Works Department, 1100 Bear Creek Parkway, Keller, TX 76248 | http://www.msc.fema.gov/lomc | Mar. 16, 2017 | 480602
Travis | City of Austin (16-06-2294P) | The Honorable Steve Adler, Mayor, City of Austin, P.O. Box 1088, Austin, TX 78767 | Watershed Engineering Division, 505 Barton Springs Road, 12th Floor, Austin, TX 78704 | http://www.msc.fema.gov/lomc | Apr. 3, 2017 | 480624
Travis | Unincorporated areas of Travis County (16-06-1784P) | The Honorable Sarah Eckhardt, Travis County Judge, 700 Lavaca Street, Austin, TX 78767 | Travis County Administration Building, 700 Lavaca Street, Austin, TX 78767 | http://www.msc.fema.gov/lomc | Mar. 27, 2017 | 481026
Virginia:
Albemarle | Unincorporated areas of Albemarle County (16-03-1697P) | Mr. Thomas C. Foley, Albemarle County Executive, 401 McIntire Road, Charlottesville, VA 22902 | Albemarle County Community Development, Engineering Department, 401 McIntire Road, 2nd Floor, Charlottesville, VA 22902 | http://www.msc.fema.gov/lomc | Mar. 22, 2017 | 510006
Independent City | City of Charlottesville (16-03-1697P) | Mr. Maurice Jones, Manager, City of Charlottesville, P.O. Box 911, Charlottesville, VA 22902 | Neighborhood Development Services, 610 East Market Street, Charlottesville, VA 22902 | http://www.msc.fema.gov/lomc | Mar. 22, 2017 | 510033
Stafford | Unincorporated areas of Stafford County (16-03-2417P) | The Honorable Robert Thomas, Jr., Chairman, Stafford County Board of Supervisors, 1300 Courthouse Road, Stafford, VA 22554 | Stafford County Administration Center, 1300 Courthouse Road, Stafford, VA 22554 | http://www.msc.fema.gov/lomc | Mar. 9, 2017 | 510154

[FR Doc. 2017-05150 Filed 3-14-17; 8:45 am]

BILLING CODE 9110-12-P